DEPARTMENT OF HOMELAND SECURITY

Federal Emergency Management Agency

[Docket ID: FEMA-2013-0056; OMB No. 1660-0072]

Agency Information Collection Activities: Submission for OMB Review; Comment Request; Mitigation Grant Program/e-Grants.

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 1, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Mitigation Grant Program/e-Grants.

Type of Information Collection: Extension, without change, of a currently approved information collection.

Form Titles and Numbers: No Forms.

Abstract: The FEMA pre-disaster mitigation grant programs—Flood Mitigation Assistance, and Pre-Disaster Mitigation—both utilize an automated grant application and management system known as e-Grants to apply for these grants. These programs provide funding to allow for the reduction or elimination of the risks to life and property from hazards. The e-Grants system also provides the mechanism to provide quarterly reports of the financial status of the project and the final closeout report.

Affected Public: State, local and Tribal Governments.

Estimated Number of Respondents: 56.

Estimated Total Annual Burden Hours: 43,848.

Estimated Cost: There are no operation and maintenance, or capital and start-up costs associated with this collection of information.

Dated: March 27, 2014.
Charlene D. Myrthil,
Director, Records Management Division, Mission Support Bureau, Federal Emergency Management Agency, Department of Homeland Security.

[FR Doc. 2014-07283 Filed 3-31-14; 8:45 am]

BILLING CODE 9110-13-P